DEPARTMENT OF COMMERCE

National Oceanic and Atmospheric Administration

[RTID 0648-XE661]

Permanent Advisory Committee To Advise the U.S. Commissioners to the Western and Central Pacific Fisheries Commission; Meeting Announcement

AGENCY: National Marine Fisheries Service (NMFS), National Oceanic and Atmospheric Administration (NOAA), Commerce.

ACTION: Notice of public meeting.

SUMMARY: NMFS announces a public meeting of the Permanent Advisory Committee (PAC) to advise the U.S. Commissioners to the Commission for the Conservation and Management of Highly Migratory Fish Stocks in the Western and Central Pacific Ocean (WCPFC) on May 28, 2025. Meeting topics are provided under the SUPPLEMENTARY INFORMATION section of this notice.

DATES: The meeting of the PAC will be held via web conference on May 28, 2025, from 10 a.m. to 1:00 p.m. Hawaii Standard Time (HST) (or until business is concluded). Members of the public may submit written comments on meeting topics or materials; comments must be received by May 21, 2025.

ADDRESSES: The public meeting will be conducted via web conference. For details on how to call in to the web conference or to submit comments, please contact Katrina Poremba, NMFS Pacific Islands Regional Office; telephone: 808-725-5096; email: katrina.porembas@noaa.gov. Documents to be considered by the PAC will be sent out via email in advance of the conference call. Please submit contact information to Katrina Poremba (telephone: 808-725-5096; email: katrina.poremba@noaa.gov) at least 7 days in advance of the call to receive documents via email. The audio portion of this meeting may be recorded for the purposes of generating notes of the meeting. As public comments will be made publicly available, participants and public commenters are urged not to provide personally identifiable information (PII) at this meeting. Participation in the meeting by web conference, or by telephone, constitutes consent to the audio recording.

FOR FURTHER INFORMATION CONTACT: Katrina Poremba, NMFS Pacific Islands Regional Office; 1845 Wasp Blvd., Bldg. 176, Honolulu, HI 96818; telephone: 808-725-5096; email: katrina.poremba@noaa.gov.

SUPPLEMENTARY INFORMATION: In accordance with the Western and Central Pacific Fisheries Convention Implementation Act (16 U.S.C. 6901 et seq.), the PAC has been formed to advise the U.S. Commissioners to the WCPFC. The PAC is composed of: (i) no less than 15 nor more than 20 individuals appointed by the Secretary of Commerce in consultation with the U.S. Commissioners to the WCPFC; (ii) the chair of the Western Pacific Fishery Management Council's Advisory Committee (or the chair's designee); and (iii) officials from the fisheries management authorities of American Samoa, Guam, and the Northern Mariana Islands (or their designees). The PAC supports the work of the U.S. National Section to the WCPFC in an advisory capacity. The U.S. National Section is made up of the U.S. Commissioners, the Department of State, and the U.S. head of delegation. NMFS Pacific Islands Regional Office provides administrative and technical support to the PAC in cooperation with the Department of State. More information on the WCPFC, established under the Convention on the Conservation and Management of Highly Migratory Fish Stocks in the Western and Central Pacific Ocean, can be found on the WCPFC website: http://www.wcpfc.int.

Meeting Topics

The purpose of the May 28, 2025 meeting is to discuss outcomes of the 21st Western and Central Pacific Fisheries Commission (WCPFC21) and U.S. objectives leading up to the 22nd Western and Central Pacific Fisheries Commission (WCPFC22) and its Subsidiary Body Meetings. There will also be an opportunity for the U.S. Participating Territories (American Samoa, Guam, and the Commonwealth of the Northern Mariana Islands to present their priority issues to the U.S. Commissioners.

Special Accommodations

The web conference is accessible to people with disabilities. Requests for sign language interpretation or other auxiliary aids should be directed to Katrina Poremba at pir.wcpfc@noaa.gov or 808-725-5096 by May 21, 2025.

Authority: 16 U.S.C. 6902 et seq.

Dated: March 7, 2025.
Karen H. Abrams,
Acting Director, Office of Sustainable Fisheries, National Marine Fisheries Service.

[FR Doc. 2025-03922 Filed 3-11-25; 8:45 am]

BILLING CODE 3510-22-P